DEPARTMENT OF JUSTICE

[AAG/A Order No. 003-2003]

Privacy Act of 1974; System of Records

Pursuant to the provisions of the Privacy Act of 1974 (5 U.S.C. 552a), the Drug Enforcement Administration (DEA), Department of Justice, proposes to establish a new system of records entitled, “Clandestine Laboratory Seizure System (CLSS) Justice/ DEA-002” which covers the described records maintained by the El Paso Intelligence Center (EPIC).

The Clandestine Laboratory Seizure System (CLSS), JUSTICE/DEA-002, is a new system of records for which no public notice consistent with the provisions of 5 U.S.C. 552a(e)(4) was previously published in the Federal Register.

In accordance with 5 U.S.C. 552a(e)(4) and (11), the public is given a 30-day period in which to comment; and the Office of Management and Budget (OMB), which has oversight responsibility under the Act, requires a 40-day period in which to conclude its review of the system. Therefore, please submit any comments by [insert date 30 days after publication in the Federal Register]. The public, OMB, and the Congress are invited to submit any comments to Mary E. Cahill, Management and Planning Staff, Justice Management Division, Department of Justice, Washington, DC 20530 (Room 1400 National Place Building).

In accordance with 5 U.S.C. 552a(r), the Department has provided a report to OMB and the Congress.

Dated: January 17, 2003.
Paul R. Corts,
Assistant Attorney General for Administration.

JUSTICE/DEA-002

SYSTEM NAME:

Clandestine Laboratory Seizure System (CLSS).

SYSTEM LOCATION:

Department of Justice, Drug Enforcement Administration, El Paso Intelligence Center, 11339 SSG Sims Street, El Paso, TX 79908-8098

CATEGORIES OF INDIVIDUALS COVERED BY THE SYSTEM:

Individuals identified or referenced in the course of investigations relating to the illicit manufacture, distribution, sale or possession of, or trafficking in controlled substances.

CATEGORIES OF RECORDS IN THE SYSTEM:

Records consist of (1) personal identification and location data which may include name (including aliases and similar sounding names), occupation(s), race, sex, date and place of birth, height, weight, hair color, eye color, citizenship, nationality/ethnicity, alien status, addresses, and other miscellaneous identifying information, including, for example, telephone, passport, drivers license, vehicles registration, and social security numbers; (2) multi-source drug intelligence data; (3) counter-drug enforcement information, including identification, location, arrest, and prosecution of persons involved in the illicit trade or trafficking, and other activities and civil proceedings related to such enforcement activities; (4) information related to organizations involved in the illicit trade in controlled substances either in the United States or internationally; (5) reports of arrests; and (6) other information involving the illicit possession, manufacture, sale, purchase, and transport of controlled substances.

AUTHORITY FOR MAINTENANCE OF THE SYSTEM:

The Comprehensive Drug Abuse Prevention and Control Act of 1970 (83 Stat. 1236), Reorganization Plan No. 2 of 1973, the Omnibus Crime Control and Safe Streets Act, (Pub. L. 90-351, as amended), and the Single Convention on Narcotic Drugs (18 U.S.C. 1407). Additional authority is derived from Treaties, Statutes, Executive Orders, Presidential Proclamations, and Attorney General Directives.

PURPOSE(S):

Records in this system are used to provide clandestine laboratory seizure information for the Drug Enforcement Administration, and other law enforcement agencies, in the discharge of their law enforcement duties and responsibilities.

ROUTINE USES OF RECORDS MAINTAINED IN THE SYSTEM, INCLUDING CATEGORIES OF USERS AND THE PURPOSES OF SUCH USES:

Pursuant to the Privacy Act, 5 U.S.C. 552a(b)(3), relevant records or any relevant facts derived therefrom may be disclosed :

(a) To federal, state, and local law enforcement agencies to facilitate the investigation and prosecution of illegal drug trafficking activities.

(b) To individuals and organizations in the course of investigations where necessary to elicit information pertinent to counter-drug, weapons, alien, and drug-money investigations.

(c) To contractors, grantees, experts, consultants, students, and others performing or working on a contract, service, grant, cooperative agreement, or other assignment for the Federal Government, when necessary to accomplish an agency function related to this system of records.

(d) To a former employee of the Department for purposes of: responding to an official inquiry by a federal, state, or local government entity or professional licensing authority in accordance with applicable regulations; or facilitating communications with a former employee that may be necessary for personnel-related or other official purposes where the Department requires information and/or consultation assistance from the former employee regarding a matter within that person's former area of responsibility.

(e) To the news media and the public pursuant to 28 CFR 50.2 unless it is determined that release of the specific information in the context of a particular case would constitute an unwarranted invasion of personal privacy;

(f) In the event that a record in this system, either alone or in conjunction with other information indicates a violation or potential violation of the law—criminal, civil, or regulatory in nature—the relevant records may be referred to the appropriate federal, state, local, or tribal law enforcement authority or other appropriate agency charged with the responsibility for investigating or prosecuting such violation or charged with enforcing or implementing such law.

(g) Information contained in systems of records maintained by the Department of Justice, not otherwise required to be released pursuant to 5 U.S.C. 552, may be made available to a Member of Congress or staff acting upon the Member's behalf when the Member or staff requests the information on behalf of and at the request of the individual who is the subject of the record.

(h) A record from a system of records may be disclosed as a routine use to the National Archives and Records Administration (NARA) and the General Services Adminstration (GSA) in records management inspections conducted under the authority of 44 U.S.C. 2904 and 2906.

(i) In an appropriate proceeding before a court or administrative or regulatory body when records are determined by the Department of Justice to be arguably relevant to the proceeding.

POLICIES AND PRACTICES FOR STORING, RETRIEVING, ACCESSING, RETAINING, AND DISPOSING OF RECORDS IN THE SYSTEM:

STORAGE:

Data is stored in electronic media via a configuration of personal computer, client/server, and mainframe systems architecture. Computerized records are maintained on hard disk, floppy diskettes, compact discs, magnetic tape, and/or optical disks. The records are stored on computer at the El Paso Intelligence Center, El Paso, Texas. Paper files are stored as follows: (1) In a secure file room with controlled access; (2) in locked file cabinets; and/or (3) in other appropriate GSA approved security containers.

RETRIEVABILITY:

Records may be retrieved by reference to an individual's name or personal identifier, name of organization, location of laboratory, date of seizure, type of chemical, and DEA investigative file number.

SAFEGUARDS:

Both electronic and paper records are safeguarded in accordance with DOJ rules and policy governing automated systems security and access. These safeguards include the maintenance of technical equipment in restricted areas, and the required use of individual passwords and user identification codes to access the system. The EPIC CLSS database is protected by both physical security methods and dissemination and access controls. Protection of the automated information system is provided by physical, procedural and electronic means.

RETENTION AND DISPOSAL:

Records in the manual portion of the system are destroyed after two years. The automated intelligence information is stored on computer and destroyed five (5) years after the date of last update of the record. The automated investigative information is destroyed twenty-five years after the date of last update, as approved by NARA.

SYSTEM MANAGER(S) AND ADDRESS:

The System Manager is the Director, El Paso Intelligence Center, 11339 SSG Sims Street, El Paso, Texas, 79912-8098.

NOTIFICATION PROCEDURES:

Inquiries should be addressed to Freedom of Information and Records Section, Drug Enforcement Administration, Washington, DC 20537.

RECORD ACCESS PROCEDURES:

A request for access to a record from this system shall be made in writing to the Freedom of Information Act (FOIA)/Privacy Act (PA) Section, Headquarters, Drug Enforcement Administration, Washington, DC 20307 or to the System Manager, with the envelope and letter clearly marked “Privacy Access Request.” The request should include a general description of the records sought and must include the requester's full name, current address, and date and place of birth. The request must be signed and either notarized or submitted under penalty of perjury and dated. Some information may be exempt from access to certain provisions as described in the section entitled “Systems Exempted from Certain Provisions of the Act.” An individual who is the subject of a record in this system may access those records that are not exempt from disclosure. A determination whether a record may be accessed will be made at the time a request is received.

CONTESTING RECORD PROCEDURES:

Individuals desiring to contest or amend information maintained in the system should direct their request according to the Record Access Procedures listed above, stating clearly and concisely what information is being contested, the reasons for contesting it, and the proposed amendment to the information sought. Some information is not subject to amendment. Some information may be exempt from contesting record procedures as described in the section entitled “Systems Exempted from Certain Provisions of the Act.” An individual who is the subject of a record in this system may amend those records that are not exempt. A determination whether a record may be amended will be made at the time a request is received.

RECORD SOURCE CATEGORIES:

(1) DEA intelligence and investigative records; (2) reports, investigative and intelligence reports from other participating and associated federal and state member agencies; and (3) records and reports of foreign law enforcement and regulatory agencies.

SYSTEM EXEMPTED FROM CERTAIN PROVISIONS OF THE ACT:

The Attorney General has exempted this system from subsections (c)(3) and (4); (d)(1), (2), (3) and (4); (e)(1), (2) and (3), (e)(5) and (e)(8); and (g), of the Privacy Act pursuant to 5 U.S.C. 552a (j) and (k). The exemptions will be applied only to the extent that information in a record is subject to exemption pursuant to 5 U.S.C. 552a(j) and (k). A determination as to exemption shall be made at the time a request for access or amendment is received. Rules have been promulgated in accordance with the requirements of 5 U.S.C. 553(b), (c) and (e) and have been published in the Federal Register.

[FR Doc. 03-1671 Filed 1-24-03; 8:45 am]

BILLING CODE 4410-09-P